ENVIRONMENTAL PROTECTION AGENCY

40 CFR Part 761

[EPA-HQ-RCRA-2008-0123; FRL-8567-2]

RIN 2050-AG42

Polychlorinated Biphenyls: Manufacturing (Import) Exemption for Veolia ES Technical Solutions, L.L.C.

AGENCY: Environmental Protection Agency (EPA).

ACTION: Notice of informal hearing.

SUMMARY: This Federal Register publication is providing notice that EPA will hold an informal public hearing on June 19, 2008, in Port Arthur, Texas, on the proposed rule entitled, Polychlorinated Biphenyls (PCBs): Manufacturing (Import) Exemption for Veolia ES Technical Solutions, L.L.C. published on March 6, 2008 (73 FR 12053). On November 14, 2006, Veolia ES Technical Solutions, L.L.C., (Veolia) submitted a petition to EPA to import up to 20,000 tons of PCB waste from Mexico for disposal at Veolia's TSCA-approved facility in Port Arthur, Texas. As a result of that petition, on March 6, 2008, EPA proposed to grant the request and provided a 45-day public comment period. The Agency extended the comment period, based on a request from a commenter, by 45 days to June 5, 2008. In addition, the Agency also agreed to hold a public hearing on the proposed rule.

DATES: The hearing will take place on Thursday, June 19, 2008, from 3:30 p.m. to 8:30 p.m. All those wishing to provide oral comments at the hearing must send a written request to EPA. Requests must be received on or before June 12, 2008.

ADDRESSES: The hearing will be held at City Hall, 444 4th Street, Port Arthur, Texas 77640, telephone (409) 983-8105. The hearing will be on the 5th floor of City Hall in the Council Chambers.

Requests to Participate: A request to provide oral comments at the informal hearing must be submitted to the Hearing Clerk by one of the following methods.

• E-mail: Requests may be sent by electronic mail to: noggle.william@epa.gov, Attention Docket ID No. EPA-HQ-RCRA-2008-0123.

• Fax: Requests may be faxed to (703) 308-0514, Attention: William Noggle; Docket ID No. EPA-HQ-RCRA-2008-0123.

• Mail: Requests may be sent to William Noggle, U.S. EPA, Office of Solid Waste, 5304P, 1200 Pennsylvania Avenue, NW., Washington, DC 20460, Attention Docket ID No. EPA-HQ-RCRA-2008-0123. Request must be received by June 12, 2008. Note that mail is subject to significant delays due to security screening, so please plan for additional delivery time.

• Hand Delivery: Requests may be hand delivered to William Noggle, U.S. EPA, Office of Solid Waste, Two Potomac Yard, 2733 South Crystal Drive, 5th Floor, N5612, Arlington, VA 22202. Such deliveries are only accepted during business hours from 9 a.m. to 5 p.m. on Monday through Friday.

See SUPPLEMENTARY INFORMATION for the type of information that must be included in the request, who may participate, as well as the procedures that EPA will follow in conducting the hearing. Please note that oral comments will only be heard from people who have requested to participate in the hearing. Members of the public can attend without prior notification to the Hearing Clerk, but they will not be part of the hearing schedule to give presentations and/or oral comments. Also note that the advance participation requests will assist in planning for the hearing. Additionally, the time for individual presentations may be limited, depending on the number of requests received.

Requests for Accommodations: Individuals requiring special accommodation at this hearing, including wheelchair access or hearing impaired accommodations, should contact the Hearing Clerk by e-mail, noggle.william@epa.gov, or telephone, (703) 347-8769, at least five (5) business days prior to the hearing so that appropriate arrangements can be made.

Docket: All documents in the docket are listed in the http://www.regulations.gov index. Although listed in the index, some information is not publicly available, such as CBI or other information, which disclosure is restricted by statute. Certain other material, such as copyrighted material, will be publicly available only in hard copy. Publicly available docket materials are available either electronically in http://www.regulations.gov or in hard copy at the RCRA Docket, EPA/DC, EPA West, Room 3334, 1301 Constitution Ave., NW., Washington, DC 20004. The Public Reading Room is open from 8:30 a.m. to 4:30 p.m. Monday through Friday, excluding legal holidays. The telephone number for the Public Reading Room is (202) 566-1744, and the telephone number for the RCRA Docket is (202) 566-0270.

FOR FURTHER INFORMATION CONTACT: William Noggle, Office of Solid Waste, Hazardous Waste Identification Division, MC 5304P, Environmental Protection Agency, 1200 Pennsylvania Ave. NW., Washington, DC 20460; telephone number: (703) 347-8769; e-mail: noggle.william@epa.gov.

SUPPLEMENTARY INFORMATION: EPA is granting a request from the public to hold an informal public hearing to receive oral comments on the proposed regulation described in the SUMMARY above. As required by 40 CFR 750.18(a), the hearing will begin no sooner than seven (7) days after the close of the comment period.

The procedures for rulemaking under section 6 of the Toxic Substances Control Act (TSCA) are found at 40 CFR part 750. Specific procedures for manufacturing (import) exemptions are identified in 40 CFR part 750, subpart B, and the procedures for participation in and the conduct of informal hearings are found at 40 CFR 750.18-750.21. The remainder of this Federal Register publication summarizes the procedures and logistics for this informal hearing, which is being held pursuant to the regulations cited above. Participants and/or commenters are advised to see 40 CFR part 750 for additional details.

Each person or organization desiring to participate in the informal hearing must file a written request to participate with the Hearing Clerk identified above. (Participation in this context means providing oral comments or a presentation at the hearing.) This request must be received on or before June 12, 2008. The request must include: (1) A brief statement of the interest of the person or organization in the proceeding; (2) a brief outline of the points to be addressed; (3) an estimate of the time required; and (4) if the request comes from an organization, a nonbinding list of the persons to take part in the presentation. An organization that has not filed comments on the rulemaking will not be allowed to participate in the hearing, unless a waiver of this requirement is granted by the Hearing Clerk. Persons or organizations requesting a waiver must submit this request to the Hearing Clerk at the address listed above. The Hearing Clerk must receive the waiver request no later than June 12, 2008.

No later than three days prior to the hearing (June 16), the Hearing Clerk will make a hearing schedule publicly available on our Web site at http://www.epa.gov/pcb/pubs/veolia.htm and mail or deliver it to each of the persons who requested to appear at the hearing. We believe the most efficient and reliable means of delivery is by electronic mail, so we encourage all participants to provide their e-mail address. If correspondence through regular mail is requested, the Hearing Clerk will mail the hearing schedule at least three days prior to the hearing, although due to delivery time, we can not be sure that the schedule will reach the participant prior to the hearing date. The schedule is subject to change during the hearing.

A panel of EPA employees will be present at the hearing, and one panel member will act as the Hearing Officer, who will conduct the hearing. Hearing participants may be asked to answer questions submitted by the audience (in writing, at the hearing), at EPA's discretion (40 CFR 750.19). Participants in the hearing may also submit additional material for the record. EPA will provide a verbatim transcript of the hearing.

After the close of the hearing, any participant in the hearing may submit written comments and questions concerning the factual nature of another hearing participant's presentation and/or ask questions of the participants. The submission should include information detailed under 40 CFR 750.8(1). The request must be provided to the Hearing Clerk using one of the methods identified in the ADDRESSES section for submitting requests to participate in the hearing. The request must be received by EPA no later than one week after a full transcript of the hearing is posted to the docket. EPA estimates that within two weeks of the hearing date, the transcript will be posted to the docket (around July 3, 2008). After the Hearing Clerk compiles all of the written questions, the Hearing Panel will review and decide which questions will be forwarded for the requested participants to answer. Any participant receiving question(s) will have one week to provide the Hearing Clerk with an answer.

Interested persons may file reply comments. Reply comments must be received no later than one week after the close of all informal hearings, which includes the question and answer procedure described in the previous paragraph. Reply comments should be restricted to comments on: (1) Other comments; (2) material in the hearing record; and (3) material which was not and could not reasonably have been available to the commenting party a sufficient time before comments were due on June 5, 2008 (40 CFR 750.4, as modified by 750.15).

Timeline of Rulemaking Actions
Proposed Rule published | March 6, 2008.
Original main comment period ending | April 21, 2008.
Extended main comment period ending | June 5, 2008.
Requests to participate in hearing due | June 12, 2008.
Hearing Clerk distributes hearing schedule | June 16, 2008.
Informal hearing date | June 19, 2008.
Hearing transcript posted to the docket | July 3, 2008 (estimated).
Comments and questions on hearing presentations due to Hearing Clerk | *July 10, 2008 (one week after hearing transcript is posted to the docket).
Hearing Clerk sends out questions to appropriate participants | *July 24, 2008 (two weeks after questions are due).
Answers received by Hearing Clerk from participants | *July 31, 2008 (one week after questions are sent).
Reply comments to Hearing Clerk due | *, **August 14, 2008 (two weeks after answers are due by participants).
* Estimated date for posting the hearing transcript will determine the timeline for the remaining actions. All dates are subject to change.
** Reply comments are due two weeks after participants' answers are received. If no questions on the hearing are received, then reply comments on the hearing testimony will be due on July 24, 2008 (giving EPA time to post a revised schedule and notice that no questions on the hearing testimony had been received by the Hearing Clerk).
This schedule will be posted on http://www.epa.gov/pcb/pubs/veolia.htm and revised, if necessary, to reflect the actual date that the hearing transcript has been posted to the docket.

Extensions of time for filing reply comments may be granted pursuant to 40 CFR 750.15, which references 40 CFR 750.4(c). Reply comments and requests for an extension of time for filing reply comments must be sent to the Hearing Clerk using one of the methods identified in the ADDRESSES section for submitting requests to participate in the hearing. Reply comments and a transcript of the hearing will be placed in the docket for the proposed rule (Docket ID No. EPA-HQ-RCRA-2008-0123). A full list of these materials is available for inspection and copying during the posted hours in the RCRA Docket as identified under ADDRESSES.

List of Subjects in 40 CFR Part 761

Environmental protection, Hazardous substances, Labeling, Polychlorinated biphenyls, Reporting and recordkeeping requirements.

Dated: May 13, 2008.
Susan Parker Bodine,
Assistant Administrator for Solid Waste and Emergency Response.

[FR Doc. E8-11177 Filed 5-16-08; 8:45 am]

BILLING CODE 6560-50-P